DEPARTMENT OF ENERGY

Federal Energy Regulatory Commission

Combined Notice of Filings #1

Take notice that the Commission received the following electric corporate filings:

Docket Numbers: EC25-79-000.

Applicants: Hummel Station, LLC, Rolling Hills Generating, L.L.C., Capital Power Investments, LLC.

Description: Joint Application for Authorization Under Section 203 of the Federal Power Act of Hummel Station, LLC, et al.

Filed Date: 4/18/25.

Accession Number: 20250418-5258.

Comment Date: 5 p.m. ET 5/9/25.

Take notice that the Commission received the following exempt wholesale generator filings:

Docket Numbers: EG25-296-000.

Applicants: SMT Dallas LLC.

Description: SMT Dallas LLC submits Notice of Self-Certification of Exempt Wholesale Generator Status.

Filed Date: 4/23/25.

Accession Number: 20250423-5145.

Comment Date: 5 p.m. ET 5/14/25.

Docket Numbers: EG25-297-000.

Applicants: SMT Energy LLC,SMT Dallas III LLC.

Description: SMT Dallas III LLC submits Notice of Self-Certification of Exempt Wholesale Generator Status.

Filed Date: 4/23/25.

Accession Number: 20250423-5150.

Comment Date: 5 p.m. ET 5/14/25.

Docket Numbers: EG25-298-000.

Applicants: SMT Energy LLC,SMT Dallas VII LLC.

Description: SMT Dallas VII LLC submits Notice of Self-Certification of Exempt Wholesale Generator Status.

Filed Date: 4/23/25.

Accession Number: 20250423-5155.

Comment Date: 5 p.m. ET 5/14/25.

Docket Numbers: EG25-299-000.

Applicants: SMT Energy LLC,SMT Houston V LLC.

Description: SMT Houston V LLC submits Notice of Self-Certification of Exempt Wholesale Generator Status.

Filed Date: 4/23/25.

Accession Number: 20250423-5157.

Comment Date: 5 p.m. ET 5/14/25.

Docket Numbers: EG25-300-000.

Applicants: SMT Energy LLC,SMT Houston VII LLC.

Description: SMT Houston VII LLC submits Notice of Self-Certification of Exempt Wholesale Generator Status.

Filed Date: 4/23/25.

Accession Number: 20250423-5158.

Comment Date: 5 p.m. ET 5/14/25.

Docket Numbers: EG25-301-000.

Applicants: SMT Energy LLC,SMT Houston XIV LLC.

Description: SMT Houston XIV LLC submits Notice of Self-Certification of Exempt Wholesale Generator Status.

Filed Date: 4/23/25.

Accession Number: 20250423-5163.

Comment Date: 5 p.m. ET 5/14/25.

Take notice that the Commission received the following electric rate filings:

Docket Numbers: ER24-2271-001; ER24-2273-001.

Applicants: Jones Farm Lane Solar, LLC, Aspen Road Solar 1, LLC.

Description: Notice of Non-Material Change in Status of Aspen Road Solar 1, LLC et al.

Filed Date: 4/21/25.

Accession Number: 20250421-5202.

Comment Date: 5 p.m. ET 5/12/25.

Docket Numbers: ER25-156-001.

Applicants: Peregrine Energy Storage, LLC.

Description: Notice of Non-Material Change in Status of Peregrine Energy Storage, LLC.

Filed Date: 4/22/25.

Accession Number: 20250422-5212.

Comment Date: 5 p.m. ET 5/13/25.

Docket Numbers: ER25-2017-000.

Applicants: Roadrunner Solar LLC.

Description: Initial Rate Filing: Application for Market-Based Rate Authority to be effective 7/1/2025.

Filed Date: 4/23/25.

Accession Number: 20250423-5111.

Comment Date: 5 p.m. ET 5/14/25.

Docket Numbers: ER25-2018-000.

Applicants: Roadrunner Battery Storage LLC.

Description: Initial Rate Filing: Application for Market-Based Rate Authority to be effective 7/1/2025.

Filed Date: 4/23/25.

Accession Number: 20250423-5112.

Comment Date: 5 p.m. ET 5/14/25.

Docket Numbers: ER25-2019-000.

Applicants: Bitter Ridge Wind Farm, LLC.

Description: Initial Rate Filing: Shared Facilities Agreement and Request for Privileged Treatment to be effective 6/23/2025.

Filed Date: 4/23/25.

Accession Number: 20250423-5114.

Comment Date: 5 p.m. ET 5/14/25.

Docket Numbers: ER25-2020-000.

Applicants: Basin Electric Power Cooperative.

Description: Compliance filing: Basin Electric Power Cooperative, Resubmission of Order No 904 Compliance Filing to be effective 6/21/2025.

Filed Date: 4/23/25.

Accession Number: 20250423-5133.

Comment Date: 5 p.m. ET 5/14/25.

Docket Numbers: ER25-2021-000.

Applicants: Sayreville Power, LLC.

Description: Tariff Amendment: Notice of Cancellation of Reactive Service Rate Schedule to be effective 4/24/2025.

Filed Date: 4/23/25.

Accession Number: 20250423-5136.

Comment Date: 5 p.m. ET 5/14/25.

Docket Numbers: ER25-2022-000.

Applicants: Tri-State Generation and Transmission Association, Inc.

Description: § 205(d) Rate Filing: Amendment to Rate Schedule FERC No. 21 to be effective 6/23/2025.

Filed Date: 4/23/25.

Accession Number: 20250423-5142.

Comment Date: 5 p.m. ET 5/14/25.

Docket Numbers: ER25-2023-000.

Applicants: ISO New England Inc., Eversource Energy Service Company (as agent),New England Power Pool Participants Committee.

Description: § 205(d) Rate Filing: ISO New England Inc. submits tariff filing per 35.13(a)(2)(iii: Second Phase of Improvements to Economic Study Process (Part 1 of 2) to be effective 6/22/2025.

Filed Date: 4/23/25.

Accession Number: 20250423-5206.

Comment Date: 5 p.m. ET 5/14/25.

Docket Numbers: ER25-2024-000.

Applicants: ISO New England Inc., New England Power Pool Participants Committee, Eversource Energy Service Company (as agent).

Description: § 205(d) Rate Filing: ISO New England Inc. submits tariff filing per 35.13(a)(2)(iii: Second Phase of Improvements to Economic Study Process (Part 2 of 2) to be effective 6/22/2025.

Filed Date: 4/23/25.

Accession Number: 20250423-5212.

Comment Date: 5 p.m. ET 5/14/25.

Docket Numbers: ER25-2025-000.

Applicants: Great Basin Transmission, LLC.

Description: § 205(d) Rate Filing: Great Basin Transmission LLC Initial Section 205 Tariff Filing to be effective 6/23/2025.

Filed Date: 4/23/25.

Accession Number: 20250423-5215.

Comment Date: 5 p.m. ET 5/14/25.

Take notice that the Commission received the following PURPA 210(m)(3) filings:

Docket Numbers: QM25-3-000.

Applicants: Citizens Electric Corporation.

Description: Application of Citizens Electric Corporation to Terminate Its Mandatory Purchase Obligation under the Public Utility Regulatory Policies Act of 1978.

Filed Date: 4/22/25.

Accession Number: 20250422-5205.

Comment Date: 5 p.m. ET 5/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 23, 2025.
Carlos D. Clay,
Deputy Secretary.

[FR Doc. 2025-07648 Filed 5-1-25; 8:45 am]

BILLING CODE 6717-01-P